DEPARTMENT OF HEALTH AND HUMAN SERVICES

Food and Drug Administration

21 CFR Part 14

[Docket No. FDA-2023-N-3497]

Advisory Committee; Board of Tea Experts; Termination and Technical Amendment to the Citation for the Federal Advisory Committee Act

AGENCY: Food and Drug Administration, Department of Health and Human Services (HHS).

ACTION: Final rule.

SUMMARY: The Food and Drug Administration (FDA or the Agency) is announcing the termination of the Board of Tea Experts by the Federal Tea Tasters Repeal Act of 1996. This document removes the Board of Tea Experts from the Agency's list of standing advisory committees. FDA is also updating the statutory citation to the Federal Advisory Committee Act to reflect recodification. This technical change aligns with the desire of Congress to incorporate various provisions that were enacted separately over a period of years; reorganize them; conforming style and terminology; modernizing obsolete language; and correcting drafting errors to remove ambiguities, contradictions, and other imperfections without changing the meaning of or effect of existing law.

DATES: This rule is effective September 19, 2023.

FOR FURTHER INFORMATION CONTACT: Michael Ortwerth, Advisory Committee Oversight and Management Staff, Food and Drug Administration, 10903 New Hampshire Ave., Bldg. 32, Rm. 5103, Silver Spring, MD 20993-0002, 301-796-8220; or ACOMSSubmissions@fda.hhs.gov.

SUPPLEMENTARY INFORMATION: The Board of Tea Experts was established on March 2, 1897, by the Tea Importation Act of 1897 (Pub. L. 54-358, section 2, March 2, 1897, 29 Stat. 604). The Board was responsible for making recommendations to the Secretary of the Treasury to fix and establish uniform standards of purity, quality, and fitness for consumption of all kinds of teas imported into the United States. The Board was terminated by the Federal Tea Tasters Repeal Act of 1996 (Pub. L. 104-128, section 3, April 9, 1996, 110 Stat. 1198). This document aligns FDA's list of standing advisory committees with existing law by removing the Board of Tea Experts.

Additionally, with the passage of the Act of December 27, 2022 (Pub. L. 117-286, 136 Stat. 4196), Congress made revisions in title 5 of the U.S. Code, as necessary to keep the title current and to make technical amendments to improve the U.S. Code. In doing so, it recodified the Federal Advisory Committee Act to chapter 10 of the U.S. Code. Thus, the appropriate regulatory citation to the Federal Advisory Committee Act is now 5 U.S.C. 1001 et seq. With this final rule, the new citation is updated in the authority citation of part 14 (21 CFR part 14).

Under 5 U.S.C. 553(b)(4)(B) and (d)(3) and 21 CFR 10.40(d) and (e), the Agency finds good cause to dispense with notice and public comment procedures and to proceed to an immediate effective date on this rule. Notice and public comment and a delayed effective date are unnecessary and not in the public interest as the Board was terminated by statute in 1996, and this final rule merely removes the name of the Board of Tea Experts from the list of standing advisory committees in § 14.100 (21 CFR 14.100) and updates the authority citation of 21 CFR part 14 to appropriately cite the Federal Advisory Committee Act (5 U.S.C. 1001 et seq.). This is a technical amendment to conform the citation to the recodification enacted on December 27, 2022, and does not substantively alter the legal authority underlying part 14.

Therefore, the Agency is amending the authority citation of part 14 and § 14.100(a) as set forth in the regulatory text of this document.

List of Subjects in 21 CFR Part 14

Administrative practice and procedure, Advisory committees, Color additives, Drugs, Radiation protection.

Therefore, under the Federal Food, Drug, and Cosmetic Act and under authority delegated to the Commissioner of Food and Drugs, 21 CFR part 14 is amended as follows:

PART 14—PUBLIC HEARING BEFORE A PUBLIC ADVISORY COMMITTEE

1. The authority citation for part 14 is revised to read as follows:

Authority: 5 U.S.C. 1001 et seq.; 15 U.S.C. 1451-1461; 21 U.S.C. 41-50, 141-149, 321-394, 467f, 679, 821, 1034; 28 U.S.C. 2112; 42 U.S.C. 201, 262, 263b, 264, 284m, 284m-1; Pub. L. 107-109, 115 Stat. 1419.

§ 14.100 [Amended]

2. Amend § 14.100 by removing paragraph (a)(1) and redesignating paragraphs (a)(2) through (5) as paragraphs (a)(1) through (4).

Dated: September 12, 2023.
Lauren K. Roth,
Associate Commissioner for Policy.

[FR Doc. 2023-20012 Filed 9-18-23; 8:45 am]

BILLING CODE 4164-01-P